DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time and Date: December 2, 2014, 9:00 a.m.-5:30 p.m. EST, December 3, 2014, 8:00 a.m.-12:00 p.m. EST.

Place: U.S. Department of Health and Human Services, Hubert H. Humphrey Building, 200 Independence Avenue SW., Room 705A, Washington, DC 20201, (202) 690-7100.

Status: Open.

Purpose: The purpose of this meeting is to review NCVHS Status of Activities and to strategically plan for 2015 objectives and deliverables. The Committee will review its ongoing efforts and direction in light of the priorities, guiding principles and coordination of Subcommittee projects. Additional topics will include an AHRQ Statistical Brief on the Impact of the Affordable Care Act (ACA) Implementation, CDC Surveillance Systems, and implementation plans for the ACA Review Committee process. The Working Group on HHS Data Access and Use will continue strategic discussions on Building a Framework for Guiding Principles for Data Access and Use.

The times shown above are for the Full Committee meeting. Subcommittee issues will be included as part of the Full Committee schedule.

For Further Information Contact: Substantive program information may be obtained from Debbie M. Jackson, Acting Executive Secretary, NCVHS, National Center for Health Statistics, Centers for Disease Control and Prevention, 3311 Toledo Road, Room 2339, Hyattsville, Maryland 20782, telephone (301) 458-4614. Summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: November 10, 2014.
James Scanlon,
Deputy Assistant Secretary for Planning and Evaluation (Science and Data Policy), Office of the Assistant Secretary for Planning and Evaluation.

[FR Doc. 2014-27200 Filed 11-17-14; 8:45 am]

BILLING CODE 4151-05-P